DEPARTMENT OF JUSTICE

[OMB Number [1123-0013]]

Agency Information Collection Activities: Proposed eComments eCollection Requested; Notice of Non-Substantive Change Request to a Previously Approved Collection

AGENCY: Criminal Division, Department of Justice.

ACTION: Notice.

DATES: The notice is effective August 5, 2016.

SUMMARY: The United States Victims of State Sponsored Terrorism Fund, Department of Justice (DOJ), Criminal Division, submitted a non-substantive change request to an approved collection to the Office of Management and Budget (OMB) in accordance with the Paperwork Reduction Act of 1995.

FOR FURTHER INFORMATION CONTACT: The Special Master, United States Victims of State Sponsored Terrorism Fund, or the Chief, Program Management and Training Unit, Asset Forfeiture and Money Laundering Section, Criminal Division, Department of Justice, 950 Pennsylvania Avenue NW, Washington, DC 20530-0001, telephone (202) 353-2046.

SUPPLEMENTARY INFORMATION: The Justice for United States Victims of State Sponsored Terrorism Act (Act), part of the Consolidated Appropriations Act of 2016, established the U.S. Victims of State Sponsored Terrorism Fund (Fund), overseen by a Special Master, to provide compensation to certain eligible individuals who were injured in acts of state sponsored terrorism. See 42 U.S.C. 10609. The Act required the Special Master to publish, within 60 days of his appointment by the Attorney General, a notice in the Federal Register specifying the procedure by which eligible United States persons may apply and establish eligibility for payment. See id. 10609(b)(2)(A). Under 42 U.S.C. 10609(c)(3)(A)(i), claimants with eligible final judgments and those Iran hostages taken and held hostage from the U.S. Embassy in Tehran, Iran, during the period beginning November 4, 1979, and ending January 20, 1981, if such person is identified as a member of the proposed class in case number 1:00-CV-03110 (EGS) of the United States District Court for the District of Columbia, and their spouses and children, have 90 days after the publication of the Fund's notice in the Federal Register to file an application for payment from the Fund. Accordingly, because claimants could apply for payment from the Fund upon the date of publication of the notice in the Federal Register, and for 90 days thereafter, the Fund developed an Application Form to assist with the claim filing.

On July 7, 2016, the Special Master submitted to OMB an emergency information collection request for the U.S. Victims of State Sponsored Terrorism Application Form in accordance with the Paperwork Reduction Act of 1995. On July 14, 2016, the Fund published its Notice in the Federal Register pursuant to 42 U.S.C. 10609(b)(2). Thus, under 42 U.S.C. 10609(c)(3)(A)(i), the Fund could begin to accept applications. On July 15, 2016, OMB approved the emergency information collection request, thereby authorizing the availability and use of the Application Form.

Part V of the Fund's Application Form, titled NOTICE TO INDIVIDUALS OF FILING OF CLAIM, specifically references a notice of filing claim for use by those applicants filing claims on behalf of deceased individuals and states that “[t]he `Additional Forms' page of the Fund Web site contains the notice [the Personal Representative] must provide to the required individuals.” This notice of filing claim is required under part VII.2.a of the Fund's Notice published in the Federal Register, which requires that “[a]ny purported Personal Representative must, before filing a claim, provide written notice of the claim to the immediate family of the decedent; to the executor, administrator, and beneficiaries of the decedent's will; and to any other persons who may reasonably be expected to assert an interest in an award or to have a cause of action to recover damages relating to the wrongful death of the decedent.” The Fund inadvertently did not, however, include the notice of filing claim as part of the Application Form and request for emergency collection of information for review and approval by OMB. Both the emergency collection of information request and the Application Form were drafted expeditiously in order to coincide with the publication of the Notice in the Federal Register and also to meet the other strict statutory time frames in the Act, including being able to authorize initial payments by December 18, 2016, in accordance with 42 U.S.C. 10609(d)(2). Accordingly, on July 28, 2016, the Fund submitted a non-substantive change request to OMB for the notice of filing claim in order to clarify the already approved collection and complete the Application Form. The only aspect of the notice of filing claim that effected a change in the information collection was the inclusion of a drafted sample notice of filing claim for use by those applicants filing an application with the Fund on behalf of a deceased individual. The notice of filing claim for use by an applicant is not mandatory, but was prepared to assist those applying as Personal Representatives of deceased individuals to satisfy the written notice requirements in the Fund's Notice published in the Federal Register. The inclusion of the notice of filing claim with the Application Form did not add substantial burden hours to the information collection and was necessary to provide applicants a complete Application Form.

At present, the Fund is preparing the 60-day notice of information collection request to OMB in accordance with the Paperwork Reduction Act of 1995. The notice will allow 60 days for public comment preceding submission of the collection to OMB. The notice of filing claim will be included as part of that information collection request to OMB.

If additional information is required contact: Jerri Murray, Department Clearance Officer, United States Department of Justice, Justice Management Division, Policy and Planning Staff, Two Constitution Square, 145 N Street NE., 3E.405B, Washington, DC 20530.

Dated: August 1, 2016.
Jerri Murray,
Department Clearance Officer for PRA, U.S. Department of Justice.

[FR Doc. 2016-18582 Filed 8-4-16; 8:45 am]

BILLING CODE 4410-14-P